NUCLEAR REGULATORY COMMISSION

[Docket No. NRC-2013-0229]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on November 8, 2013 (78 FR 67204).

1. Type of submission, new, revision, or extension: New.

2. The title of the information collection: NRC Form 749, “Manual License Verification Report.”

3. Current OMB approval number: 3150-XXXX.

4. The form number if applicable: NRC 749.

5. How often the collection is required: On occasion. Licensees subject to Part 37 of Title 10 of the Code of Federal Regulations (10 CFR), “Physical Protection of Byproduct Material” license verification requirements must verify the legitimacy of the license with the issuing agency prior to transferring radioactive materials in quantities of concern.

6. Who will be required or asked to report: Licensees are required to complete license verification under the circumstances noted in 3 above. A License Verification System (LVS) has been developed, providing an electronic method for fulfilling this requirement. In cases where a licensee is unable to use the LVS to perform verification, they will provide NRC Form 749 for manual license verification.

7. An estimate of the number of annual responses: 91.

8. The estimated number of annual respondents: 91.

9. An estimate of the total number of hours needed annually to complete the requirement or request: 9.1 hours.

10. Abstract: When a licensee is unable to use the License Verification System to perform their license verification prior to transfer, a manual process has been developed; in which licensees submit the NRC Form 749, “Manual License Verification Report.” The form provides the information necessary for the issuing agencies to perform the verification on behalf of the transferring licensee.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/.

The document will be available on the NRC's home page site for 60 days after the signature date of this notice.

Comments and questions should be directed to the OMB reviewer listed below by April 2, 2014. Comments received after this date will be considered if it is practical to do so, but assurance of consideration cannot be given to comments received after this date.

Danielle Y. Jones, Desk Officer, Office of Information and Regulatory Affairs (3150-XXXX), NEOB-10202, Office of Management and Budget, Washington, DC 20503.

Comments can also be emailed to Danielle_Y_Jones@omb.eop.gov or submitted by telephone at 202-395-1741.

The Acting NRC Clearance Officer is Kristen Benney, telephone: 301-415-6355.

Dated at Rockville, Maryland, this 25th day of February, 2014.
For the Nuclear Regulatory Commission.
Kristen Benney,
Acting NRC Clearance Officer, Office of Information Services.

[FR Doc. 2014-04478 Filed 2-28-14; 8:45 am]

BILLING CODE 7590-01-P